DEPARTMENT OF STATE

[Public Notice: 9290]

In the Matter of the Amendment of the Designation of Islamic State of Iraq and the Levant, Also Known as Islamic State, Also Known as ISIL, Also Known as ISIS, as a Foreign Terrorist Organization Pursuant to Section 219 of the Immigration and Nationality Act, as Amended

Based upon a review of the administrative record assembled in this matter pursuant to Section 219 of the Immigration and Nationality Act, as amended (8 U.S.C. 1189 (“INA”), and in consultation with the Attorney General and the Secretary of the Treasury, I have concluded that there is a sufficient factual basis to find that the Islamic State of Iraq and the Levant uses the additional aliases the Islamic State, ISIL, and ISIS. Therefore, pursuant to Section 219(b) of the INA, as amended (8 U.S.C. 1189(b)), I hereby amend the designation of the Islamic State of Iraq and the Levant as a Foreign Terrorist Organization to include the Islamic State, ISIL, and ISIS as aliases.

This determination shall be published in the Federal Register.

Dated: September 21, 2015.
John F. Kerry,
Secretary of State.

[FR Doc. 2015-24893 Filed 9-29-15; 8:45 am]

BILLING CODE 4710-AD-P